FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 26, 2014.

A. Federal Reserve Bank of Chicago (Colette A. Fried, Assistant Vice President) 230 South LaSalle Street, Chicago, Illinois 60690-1414:

1. Steven P. Malone Revocable Trust dated December 27, 2011, and Steven P. Malone, as trustee of the Steven P. Malone Revocable Trust, Apple River, Illinois, individually, and the Steven P. Malone Revocable Trust dated December 27, 2011, and Steven P. Malone, as trustee of the Steven P. Malone Revocable Trust, together as a group acting in concert with Lisa M. Byrne and Matthew P. Byrne, both of Aurora, Illinois, and Patrick I. Malone and Jean L. Malone, both of Apple River, Illinois, to retain voting shares of BSB Community Bancorporation, Inc., and thereby indirectly retain voting shares of Benton State Bank, both Benton, Wisconsin.

Board of Governors of the Federal Reserve System, November 7, 2014.
Michael J. Lewandowski,
Associate Secretary of the Board.

[FR Doc. 2014-26880 Filed 11-13-14; 8:45 am]

BILLING CODE 6210-01-P